FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 020139NF.

Name: Adora International Services, LLC dba; Adora Shipping Company.

Address: 16809 FM 1485, Conroe, TX 77306.

Date Revoked: July 6, 2007.

Reason: Failed to maintain valid bonds.

License Number: 016783N.

Name: C & A Shipping, Inc.

Address: 100 Menlo Park, Ste. 326, Edison, NJ 08827.

Date Revoked: July 12, 2007.

Reason: Failed to maintain a valid bond.

License Number: 017378N.

Name: E.M.W. Freight Forwarding Corp.

Address: 10300 Northwest 19th Street, Ste. 104, Miami, FL 33172.

Date Revoked: July 15, 2007.

Reason: Failed to maintain a valid bond.

License Number: 018772NF.

Name: Global Cargo Expediters Inc.

Address: 1 Cross Island Plaza, Ste. 220, Rosedale, NY 11422.

Date Revoked: June 20, 2007.

Reason: Failed to maintain valid bonds.

License Number: 017141N.

Name: I.C.S. Customs Service, Inc.

Address: 812 Thorndale, Bensenville, IL 60106.

Date Revoked: July 8, 2007.

Reason: Failed to maintain a valid bond.

License Number: 019352N.

Name: Internet Shipping Lines, Inc.

Address: 175-18, 147th Ave., Jamaica, NY 11434.

Date Revoked: July 1, 2007.

Reason: Failed to maintain a valid bond.

License Number: 018289N.

Name: JUC Ocean Express Inc.

Address: 3380 Flair Drive, Ste. 234, El Monte, CA 91731.

Date Revoked: July 4, 2007.

Reason: Failed to maintain a valid bond.

License Number: 004318F.

Name: Lax Freight Services, Inc.

Address: 460 South Hindry Ave., Ste. A, Inglewood, CA 90301.

Date Revoked: July 23, 2007.

Reason: Failed to maintain a valid bond.

License Number: 019445N.

Name: Logistics Container Line, LLC.

Address: 45 Rason Road, Inwood, NY 11096.

Date Revoked: July 23, 2007.

Reason: Surrendered license voluntarily.

License Number: 017385F.

Name: New Horizons International Group Inco.

Address: 6480 New Hampshire Ave., Takoma Park, MD 20912.

Date Revoked: July 1, 2007.

Reason: Failed to maintain a valid bond.

License Number: 019822F.

Name: R.T.I. Shipping Inc.

Address: 191-03 Jamaica Ave., Hollis, NY 11423.

Date Revoked: July 7, 2007.

Reason: Failed to maintain a valid bond.

License Number: 018311N.

Name: S.F. Systems, Inc.

Address: 12335 Denholm Drive, #C, El Monte, CA 91732.

Date Revoked: July 1, 2007.

Reason: Failed to maintain a valid bond.

License Number: 019643NF.

Name: Sigma Logistics, Inc.

Address: 1100 S. EL Molino Ave., Pasadena, CA 91106.

Date Revoked: July 20, 2007.

Reason: Failed to maintain valid bonds.

License Number: 015605N.

Name: Solid Trans Inc.

Address: 1401 S. Santa Fe Ave., Compton, CA 90221.

Date Revoked: July 1, 2007.

Reason: Failed to maintain a valid bond.

License Number: 019040NF.

Name: Tisco Logistics, Inc.

Address: 347 South Stimson Ave., City of Industry, CA 91744.

Date Revoked: July 16, 2007.

Reason: Surrendered license voluntarily.

License Number: 018462NF.

Name: Trans Pacific Logistics Incorporated.

Address: 4701 W. Imperial Hwy, Ste., 202, Hawthorne, CA 90304.

Date Revoked: June 28, 2007.

Reason: Failed to maintain valid bonds.

License Number: 004027N.

Name: U.S. Airfreight, Inc.

Address: 2624 Northwest 112th Ave., Doral, FL 33172.

Date Revoked: July 15, 2007.

Reason: Failed to maintain a valid bond.

Sandra L. Kusumoto,
Director, Bureau of Certification and Licensing.

[FR Doc. E7-14909 Filed 7-31-07; 8:45 am]

BILLING CODE 6730-01-P